DEPARTMENT OF COMMERCE

National Oceanic and Atmospheric Administration

RIN 0648-XC544

Marine Mammals; File No. 17941

AGENCY: National Marine Fisheries Service (NMFS), National Oceanic and Atmospheric Administration (NOAA), Commerce.

ACTION: Notice; receipt of application.

SUMMARY: Notice is hereby given that Brian Skerry, 285 High Street, Uxbridge, MA 01569, has applied in due form for a permit to conduct commercial or educational photography on bottlenose (Tursiops truncatus) and spinner (Stenella longirostris) dolphins.

DATES: Written, telefaxed, or email comments must be received on or before April 22, 2013.

ADDRESSES: These documents are available upon written request or by appointment in the following offices:

Permits and Conservation Division, Office of Protected Resources, NMFS, 1315 East-West Highway, Room 13705, Silver Spring, MD 20910; phone (301) 427-8401; fax (301) 713-0376;

Pacific Islands Region, NMFS, 1601 Kapiolani Blvd., Rm 1110, Honolulu, HI 96814-4700; phone (808) 944-2200; fax (808) 973-2941; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Kristy Beard, (301) 427-8401.

SUPPLEMENTARY INFORMATION: The subject permit is requested under the authority of the Marine Mammal Protection Act of 1972, as amended (MMPA; 16 U.S.C. 1361 et seq.) and the regulations governing the taking and importing of marine mammals (50 CFR part 216). The applicant is requesting authorization to conduct two photography/filming projects. The first would consist of helicopter flights over Florida Bay to capture bottlenose dolphins mud-ring feeding. A maximum of 400 dolphins may be harassed during the filming. The second project would focus on areas where spinner dolphins and humans interact in Hawaii. Locations would include the west side of Oahu and four bays on the Kona coast of Hawaii Island. Methods include both vessel-based and underwater photography. Up to 75 spinner dolphins may be approached within 50 yards during the filming. Four pantropical spotted dolphins (Stenella attenuata) may also be approached if they are associated with spinner dolphins. Images and video from both locations will be used for a feature story in National Geographic Magazine on dolphin cognition and intelligence. Dolphin researchers familiar to each filming location are working as scientific advisors with the applicant. Both projects are currently scheduled for two week timeframes in summer 2013. To allow for scheduling changes, the permit would be valid until March 2014.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 18, 2013.
P. Michael Payne,
Chief, Permits and Conservation Division, Office of Protected Resources, National Marine Fisheries Service.

[FR Doc. 2013-06593 Filed 3-21-13; 8:45 am]

BILLING CODE 3510-22-P